DEPARTMENT OF JUSTICE

Notice of Lodging of Consent Decree Under the Clean Air Act

Notice is hereby given that on February 8, 2001, a proposed consent decree in United States v. Forsch Polymer Corporation, Civil Action No. 00-N-919, was lodged with the United States District Court for the District of Colorado.

In this action, the United States sought injunctive relief and the payment of civil penalties for Forsch Polymer's alleged violations of the Stratospheric Ozone Protection Requirements set forth at Subchapter VI of the Clean Air Act, and EPA's implementing regulations. Under the proposed decree, the defendant Forsch Polymer Corporation will pay the sum of $32,000 over a one year period. The settlement sum is based upon the financial inability of Forsch Polymer Corporation to pay more. The proposed decree does not require that Forsch Polymer Corporation take any injunctive measures because Forsch Polymer Corporation has certified that it no longer uses the ozone depleting substance that formed the basis of the United States' action.

The Department of Justice will receive for a period of thirty (30) days from the date of this publication comments relating to the proposed consent decree. Comments should be addressed to the Assistant Attorney General of the Environment and Natural Resources Division, Department of Justice, Washington, DC 20530, and should refer to United States v. Forsch Polymer Corporation, D.J. Ref. 90-5-2-1-06428.

The proposed consent decree may be examined at the Office of the United States Attorney, 1225 17th Street, Suite 700, Denver, CO 80202; and at U.S. EPA Region VIII, 999 18th Street, Denver, Colorado 80202. A copy of the proposed consent decree may be obtained by mail from the Consent Decree Library, P.O. Box 7611, Washington, DC 20044. In requesting a copy, please enclose a check in the amount of $3.25 (25 cents per page reproduction cost) payable to the Consent Decree Library.

Robert D. Brook,
Assistant Chief, Environmental Enforcement Section, Environment and Natural Resources Division.

[FR Doc. 01-4515 Filed 2-22-01; 8:45 am]

BILLING CODE 4410-15-M